DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Dale Lee Nunez, Portland, OR, PRT-044912

The applicant requests a permit to import the sport-hunted trophy of one male bontebok (Damaliscus pygargus dorcas) culled from a captive herd maintained under the management program of the Republic of South Africa, for the purposes of enhancement of the survival of the species.

Applicant: Edward W. Berkeley, Portland, OR, PRT-044913

The applicant requests a permit to import the sport-hunted trophy of one male bontebok (Damaliscus pygargus dorcas) culled from a captive herd maintained under the management program of the Republic of South Africa, for the purposes of enhancement of the survival of the species.

Applicant: Bowmanville Zoo, Ontario, Canada, PRT-044983

The applicant requests a permit to import and re-export a captive-born jaguar (Panthera onca) and progeny of the animals currently held by the applicant and any animals acquired in the United States to/from worldwide locations to enhance the survival of the species through conservation education. This notification covers activities conducted by the applicant over a three-year period.

Applicant: Dr. M. F. Marcone, Department of Food Science, University of Guelph, Ontario, Canada, PRT-044611

The applicant requests a permit to import and re-export specimens of the endangered plants, Achyranthes splendens var. rotundata and Nototrichium humile, to and from various research facilities in the United States for the purposes of scientific research. This notification covers the activities conducted by the applicant over a five-year period.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR 18) and endangered species (50 CFR 17).

Applicant: Harbor Branch Oceanographic Institution, Fort Pierce, FL PRT-038605.

Permit Type: Take for Scientific Research.

Name and Number of Animals: West Indian Manatee, Trichechus manatus, 8.

Summary of Activity to be Authorized: The applicant requests a permit to transfer 6 captive held, 2 captive born, as well as 1 Pre-Act, specimens, from Homosassa Springs Wildlife Park, Homosassa, FL, to their facility at Ft. Pierce, Florida, for the purpose of scientific research.

Source of Marine Mammals: Captive held and captive born.

Period of Activity: Up to 5 years if issued.

Concurrent with the publication of this notice in the Federal Register, the Division of Management Authority is forwarding copies of the above application to the Marine Mammal Commission and the Committee of Scientific Advisors for their review.

The public is invited to comment on the following application for a permit to conduct certain activities with marine mammals. The application was submitted to satisfy requirements of the Marine Mammal Protection Act of 1972, as amended (16 U.S.C. 1361 et seq.) and the regulations governing marine mammals (50 CFR 18).

Applicant: Jack A. Wilkinson, Kalispell, MT, PRT-044833

The applicant requests a permit to import a polar bear (Ursus maritimus) sport hunted from the Northern Beaufort Sea polar bear population in Canada for personal use.

Written data, comments, or requests for copies of the above complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

The U.S. Fish and Wildlife has information collection approval from OMB through March 31, 2004, OMB Control Number 1018-0093. Federal Agencies may not conduct or sponsor, and a person is not required to respond to, a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: June 29, 2001.
Monica Farris,
Senior Permit Biologist, Branch of Permits, Division of Management Authority.

[FR Doc. 01-17363 Filed 7-10-01; 8:45 am]

BILLING CODE 4310-55-P